DEPARTMENT OF COMMERCE

National Oceanic and Atmospheric Administration

RIN 0648-XO29

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. The Assistant Regional Administrator has made a preliminary determination that the activities authorized under this EFP would be consistent with the goals and objectives of the Monkfish Fishery Management Plan (FMP). However, further review and consultation may be necessary before a final determination is made to issue an EFP. Therefore, NMFS announces that the Assistant Regional Administrator proposes to recommend that an EFP be issued that would allow 24 commercial fishing vessels to conduct compensation fishing operations that are otherwise restricted by the regulations governing the fisheries of the Northeastern United States. This EFP, which would enable vessels to harvest monkfish granted through the Monkfish Research Set-Aside (RSA) Program, would grant exemptions from the monkfish days-at-sea (DAS) possession limits in the Southern and Northern Fishery Management Areas.

Regulations under the Magnuson-Stevens Fishery Conservation and Management Act require publication of this notification to provide interested parties the opportunity to comment on applications for proposed EFPs.

DATES: Comments must be received on or before May 4, 2009.

ADDRESSES: You may submit written comments by any of the following methods:

• Email: DA9-071@noaa.gov. Include in the subject line “Comments on Monkfish RSA Harvest EFP.”

• Mail: Patricia A. Kurkul, Regional Administrator, NMFS, NE Regional Office, 1 Blackburn Drive, Gloucester, MA 01930. Mark the outside of the envelope “Comments on monkfish RSA harvest EFP, DA9-071.”

• Fax: (978) 281-9135.

FOR FURTHER INFORMATION CONTACT: Emily Bryant, Fishery Management Specialist, 978-281-9244.

SUPPLEMENTARY INFORMATION: An application for an EFP was submitted by Gulf of Maine Research Institute on March 5, 2009, for a project selected under the New England and Mid-Atlantic Fishery Management Councils' Monkfish RSA Program. The project itself will investigate a multi-method approach for determining age in monkfish through lab trials utilizing monkfish samples obtained through a previously issued Letter of Authorization. This EFP would grant an exemption from monkfish possession limits to 24 vessels for the purpose of harvesting RSA to fund this research project (i.e. compensation fishing). Funds generated by the compensation fishing will be used to pay for laboratory equipment, as well as salaries and stipends for principal investigators.

Compensation fishing for this research would occur from May 2009 through April 2010. The 24 fishing industry collaborators would have access to 203 monkfish DAS that will be awarded to the project through the Monkfish RSA Program. The applicant states that these vessels must be able to land at least 3,000 lb (1,361 kg) of whole monkfish (904 lb (410 kg) tail weight) per trip to achieve the goal of $2,800 per RSA DAS. In order to achieve this target catch, these fishing activities would require an exemption from monkfish DAS possession limits at 50 CFR 648.94(b)(2). This exemption would provide these 24 vessels with the flexibility they need to generate sufficient income to meet projected costs of the research activity, while minimizing operating expenses. Based on the preliminary award of 203 DAS, this would require a total catch of 609,000 lb (276,238 kg) of whole monkfish (183,434 lb (83,204 kg) tail weight). Operating under this total landings cap, compensation fishing would continue until the required goal of 609,000 lb (276,238 kg) of whole monkfish is met, or until the awarded DAS have been fully utilized, whichever occurs first. Aside from this exemption, fishing activity would be conducted under normal commercial practices.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited. If the research project is terminated for any reason prior to completion, any unused funds collected from catch sold to pay for research expenses may be refunded to NOAA.

Authority: 16 U.S.C. 1801 et seq.

Dated: April 13, 2009.
Kristen C. Koch,
Acting Director, Office of Sustainable Fisheries, National Marine Fisheries Service.

[FR Doc. E9-8890 Filed 4-16-09; 8:45 am]

BILLING CODE 3510-22-S